DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW, Washington, DC 20590-0001, (202) 366-4535

Key to “Reasons for Delay”

1. Awaiting additional information from applicant.

2. Extensive public comment under review.

3. Application is technically complex and is of significant impact or precedent-setting and requires extensive analysis.

4. Staff review delayed by other priority issues or volume of exemption applications.

Meaning of Application Number Suffixes.

N—New application

M—Modification request

PM—Party to application with modification request

Issued in Washington, DC, on April 4, 2000.
J. Suzanne Hedgepeth,
Director, Office of Hazardous Materials Exemptions and Approvals.

New Exemption Applications
Application No. | Applicant | Reason for delay | Estimated date of completion
11767-N | Ausimont USA, Inc., Thorofare, NJ | 1 | 05/31/2000
11862-N | The BOC Group, Murray Hill, NJ | 4 | 05/31/2000
11927-N | Alaska Marine Lines, Inc., Seattle, WA | 4 | 05/31/2000
12106-N | Air Liquide America Corporation, Houston, TX | 4 | 05/31/2000
12125-N | Mayo Foundation, Rochester, MN | 4 | 05/31/2000
12142-N | Aristech Chemical Corp., Pittsburgh, PA | 4 | 05/31/2000
12146-N | Luxfer Gas Cylinders, Riverside, CA | 1 | 04/28/2000
12148-N | Eastman Kodak Company, Rochester, NY | 4 | 05/31/2000
12158-N | Hickson Corporation, Conley, GA | 4 | 05/31/2000
12181-N | Aristech, Pittsburgh, PA | 4 | 05/31/2000
12205-N | Independent Chemical Corp., Glendale, NY | 4 | 04/28/2000
12248-N | Ciba Specialty Chemicals Corp., High Point, NC | 4 | 04/28/2000
12277-N | The Indian Sugar & General Engineering Corp. ISGE, Haryana, IX | 1 | 04/28/2000
12280-N | Combined Tactical Systems, Inc., Jamestown, PA | 4 | 04/28/2000
12281-N | ABS Group, Inc., Houston, TX | 4 | 04/28/2000
12290-N | Savage Industries, Inc., Pottstown, PA | 4 | 04/28/2000
12992-N | Westway Trading Corporation, New Orleans, LA | 4 | 04/28/2000
12293-N | Intercontinental Packaging Corp., Tuckahoe, NY | 4 | 04/28/2000
12297-N | Applied Companies, Valencia, CA | 1 | 05/31/2000
12301-N | Niklor Chemical Co., Long Beach, CA | 4 | 04/28/2000
12307-N | Kern County Dept. of Weights & Measures, Bakersfield, CA | 4 | 05/31/2000
12316-N | The Dow Chemical Co., Channahon, IL | 4 | 04/28/2000
12325-N | Lifeline Technologies, Inc., Sharon Hill, PA | 4 | 04/28/2000
12332-N | Automotive Occupant Restraints Council, Lexington, KY | 4 | 04/28/2000
12333-N | BFI, Atlanta, GA | 4 | 04/28/2000
12338-N | Aeronex, Inc., San Diego, CA | 4 | 04/28/2000
12339-N | BOC Gases, Murray Hill, NJ | 4 | 04/28/2000
12341-N | Space Systems/Loral, Palo Alto, CA | 4 | 06/30/2000
12343-N | City Machine & Welding, Inc. of Amarillo, Amarillo, TX | 1 | 04/28/2000
12350-N | BAC Technologies, Ltd., West Liberty, OH | 4 | 04/28/2000
12351-N | Nalco/Exxon Energy Chemicals, L.P., Freeport, TX | 4 | 05/31/2000
12353-N | Monson Companies, South Portland, ME | 4 | 05/31/2000
12355-N | Union Tank Car Company, East Chicago, IN | 4 | 05/31/2000
12356-N | Memorial Healthcare System, Pembroke Pines, FL | 4 | 05/31/2000
12359-N | Reilly Industries, Inc., Indianapolis, IN | 4 | 04/28/2000
6611-M | Gardner Cryogenics, Lehigh Valley, PA | 1 | 05/31/2000
6765-M | Gardner Cryogenics, Lehigh Valley, PA | 1 | 05/31/2000
7277-M | Structural Composites Industries, Pomona, CA | 4 | 05/31/2000
8308-M | Tradewind Enterprises, Inc., Hillsboro, OR | 4 | 05/31/2000
8556-M | Gardner Cryogenics, Lehigh Valley, PA | 4 | 04/28/2000
9266-M | ERMEWA, Inc., Houston, TX | 4 | 05/31/2000
10480-M | Gardner Cryogenics, Lehigh Valley, PA | 1 | 05/31/2000
10656-M | Conf. of Radiation Control Program Directors, Inc., Frankfort, KY | 4 | 05/31/2000
10672-M | Burlington Packaging, Inc., Brooklyn, NY | 4 | 05/31/2000
10821-M | BFI Waste Systems of North America, Inc., Atlanta, GA | 4 | 05/31/2000
10921-M | The Procter & Gamble Company, Cincinnati, OH | 1 | 05/31/2000
10962-M | International Compliance Center, Mississauga ON L4Z 1X8, CA | 4 | 05/31/2000
10977-M | Federal Industries Corporation, Plymouth, MN | 4 | 05/31/2000
10987-M | Air Products and Chemicals, Inc., Allentown, PA | 4 | 04/28/2000
11186-M | Cryenco, Inc., Denver, CO | 4 | 05/31/2000
11248-M | HAZMATPAC, Houston, TX | 4 | 05/31/2000
11327-M | Phoenix Services Limited Partnership, Pasadena, MD | 4 | 05/31/2000
11406-M | Conf. of Radiation Control Program Directors, Inc., Frankfort, KY | 4 | 04/28/2000
11537-M | JCI Jones Chemicals, Inc., Milford, VA | 4 | 05/31/2000
11749-M | Union Tank Car Company, East Chicago, IN | 4 | 05/31/2000
11769-M | Great Western Chemical Company, Portland, OR | 4 | 05/31/2000
11769-M | Great Western Chemical Company, Portland, OR | 4 | 04/28/2000
11769-M | Hydrite Chemical Company, Brookfield, WI | 4 | 05/31/2000
11798-M | Air Products and Chemicals, Inc., Allentown, PA | 1, 4 | 05/31/2000
11903-M | Comptank Corporation, Bothwell, Ontario, CA | 4 | 04/28/2000
12074-M | Van Hool NV, B-2500 Lier Koningshooikt, BG | 1 | 04/28/2000
12178-M | STC Technologies, Inc., Bethlehem, PA | 1 | 04/28/2000

[FR Doc. 00-8729 Filed 4-7-00; 8:45 am]

BILLING CODE 4910-60-M